DEPARTMENT OF HEALTH AND HUMAN SERVICES

[Document Identifier: OS-0990-new]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 14, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: OASH Performance Project Report for Grants and Cooperative Agreements.

Type of Collection: New.

OMB No. 0990-NEW—Office of the Assistant Secretary for Health.

Abstract: The Office of the Assistant Secretary for Health (OASH) is seeking OMB approval on a new information collection, the OASH Periodic Performance Project Report for Grants and Cooperative Agreements (hereafter the OASH PPR). The purpose of this data collection is to gather quantitative and qualitative information common to the assessment of recipient performance on individual grants and cooperative agreements (collectively, grants) managed in OASH. OASH will collect common data elements measuring the performance of each recipient against the approved grant project plan, including progress toward goals and outcomes as required by 45 CFR 75.342(b)(2).

OASH oversees a broad range of grant programs within the Office of the Secretary (OS), Department of Health and Human Services (HHS). The current active OASH programs with discretionary grants (with assistance listing number) include: Public Awareness Campaigns on Embryo Adoption (93.007); Research on Research Integrity (93.085); Advancing System Improvements for Key Issues in Women's Health (93.088); Community Programs to Improve Minority Health Grant Programs (93.137); Family Planning Services (93.217); Family Planning Personnel Training (93.260); Teenage Pregnancy Prevention Program (93.297); Public Health Service Evaluation Funds (93.343); Research, Monitoring and Outcomes Definitions for Vaccine Safety (93.344); Minority HIV/AIDS Fund (93.899); Family Planning Service Delivery Improvement Research Grants (93.974); and National Health Promotion (93.990). OASH grants span a wide range of project types, including service, demonstration project, evaluation, research, training, and conference projects. Within each program, the awards are subdivided into cohorts aligned with the notices of funding opportunity under which OASH competed the awards. Currently, there are 47 cohorts of active awards across OASH. In any given year, OASH programs collectively monitor 450-550 active awards with another 200-300 inactive awards awaiting final reports as a prerequisite to closing the grant.

The collection is needed to enhance project performance information and simplify reporting under 45 CFR 75.301. Each recipient currently must submit a quarterly Federal Financial Report (FFR or SF-425)(45 CFR 75.341) and a periodic Performance Progress Report (PPR) for each grant (45 CFR 75.342(b)(2). PPR reporting periods in OASH are scheduled quarterly, semi-annually, or annually, depending on the need determined by the program office using a narrative format that can vary by cohort. The PPR schedule is specifically aligned with the quarterly FFRs whenever possible to create a complete snapshot of the project's progress at the end of the reporting period.

The common elements identified in the new collection for OASH programs will standardize the collection of the required information (45 CFR 75.342(b)(2)) including: (1) a comparison of the actual accomplishments to the objectives of the award for the period; (2) the reasons why established goals were not met; and (3) pertinent information, analysis and explanation of cost overruns or high unit costs. The common elements include reporting on publications, including data sets and other work products, to facilitate implementation of OSTP Memorandum Ensuring Free, Immediate, and Equitable Access Federally Funded Research (August 25, 2022). The new information collection will limit the content of the report to those activities taking place during the reporting period (i.e., quarterly, semiannually, or annually). The information collection is structured to facilitate program review across reporting periods. This will allow OASH to identify and improve program outcomes, share lessons learned, and spread the adoption of promising practices among its grant recipients and other HHS awarding agencies.

The content of the new collection is structured for web-based data collection under 7 headings: Report Header; Project Progress; Significant Project Accomplishments; Broader Program Impacts; Products and Dissemination; Collaboration and Partnering Activities; and Project Evaluation Activities. Information will be prepopulated based on the login credentials for the user submitting the report and the specific grant being reported. Not all grants will have reportable activities under all headings (e.g., not all grants have an evaluation component embedded in the project). However, most OASH grants will have reportable information under most headings. Program offices with additional reporting programmatic information collections will eventually transition collection of any overlapping data elements to this OASH PPR. During the transition, OASH will not require grant recipients to provide the same information twice.

Likely Respondents: Members and staff from academia, community organizations, local/state/federal government, private sector, and tribal government and services organizations including those who serve American Indian and Alaska Native and/or racial and ethnic minorities.

Estimated Annualized Burden Table
Type of respondent | Number of respondents | Number responses per respondent | Average burden per response (in hours) | Total burden hours
OASH grant recipients | 800 | 3 | 1 | 2,400
Total | 800 | 3 | 1 | 2,400

Sherrette A. Funn,
Paperwork Reduction Act Reports Clearance Officer, Office of the Secretary.

[FR Doc. 2024-15460 Filed 7-12-24; 8:45 am]

BILLING CODE 4150-29-P